ENVIRONMENTAL PROTECTION AGENCY

[FRL OPRM-FAD-201]

Environmental Impact Statements; Notice of Availability

Responsible Agency: Office of Federal Activities, General Information 202-993-3272 or https://www.epa.gov/nepa.

Weekly receipt of Environmental Impact Statements (EIS)

Filed December 1, 2025 10 a.m. EST Through December 8, 2025 10 a.m. EST

Pursuant to CEQ Guidance on 42 U.S.C. 4332.

Notice: Section 309(a) of the Clean Air Act requires that EPA make public its comments on EISs issued by other Federal agencies. EPA's comment letters on EISs are available at: https://cdxapps.epa.gov/cdx-enepa-II/public/action/eis/search.

EIS No. 20250169, Draft, BR, CA, Del Puerto Canyon Reservoir, Comment Period Ends: 01/12/2026, Contact: Allison Jacobson 916-978-5075.

Amended Notice:

EIS No. 20250167, Draft Supplement, NHTSA, REG, Draft Supplemental Environmental Impact Statement Safer Affordable Fuel-Efficient (SAFE) Vehicles Rule III for Model Years 2022 to 2031 Passenger Cars and Light Trucks, Comment Period Ends: 01/20/2026, Contact: Joseph Bayer 888-327-4236. Revision to FR Notice Published 12/5/2025; Added Comment Period Due Date January 20, 2026.

Dated: December 8, 2025.
Nancy Abrams,
Deputy Director, Federal Activities Division.

[FR Doc. 2025-22652 Filed 12-11-25; 8:45 am]

BILLING CODE 6560-50-P